DEPARTMENT OF AGRICULTURE

Animal and Plant Health Inspection Service

9 CFR Part 166

[Docket No. APHIS-2008-0120]

RIN 0579-AC91

Swine Health Protection; Feeding of Processed Product to Swine

AGENCY: Animal and Plant Health Inspection Service, USDA.

ACTION: Affirmation of interim rule as final rule.

SUMMARY: We are adopting as a final rule, without change, an interim rule that amended the swine health protection regulations to clarify the applicability of the regulations regarding the treatment of garbage that consists of industrially processed materials. The interim rule made clear that such materials are subject to the same treatment requirements as other regulated garbage, except for materials that meet the definition of processed product that we added to the regulations in the interim rule. The interim rule was necessary to ensure that garbage fed to swine has been treated to inactivate disease organisms that pose a risk to the U.S. swine industry.

DATES: Effective on December 9, 2009, we are adopting as a final rule the interim rule published at 74 FR 15215-15218 on April 3, 2009.

FOR FURTHER INFORMATION CONTACT: Dr. Dave Pyburn, Senior Staff Veterinarian, Swine Health Programs, VS, APHIS, Room 891, 210 Walnut Street, Des Moines, IA 50309; (515) 284-4122.

SUPPLEMENTARY INFORMATION:

Background

The Swine Health Protection Act (7 U.S.C. 3801 et seq., referred to below as the Act) is intended to protect the commerce of the United States and the health and welfare of the people of the United States by ensuring that food waste fed to swine does not contain active disease organisms that pose a risk to U.S. swine. The regulations in 9 CFR part 166 regarding swine health protection (referred to below as the regulations) were promulgated in accordance with the Act. The regulations contain provisions that regulate food waste containing any meat products fed to swine. Compliance with the regulations ensures that all food waste fed to swine is properly treated to kill disease organisms. Raw or undercooked meat may transmit numerous infectious or communicable diseases to swine, including exotic viral diseases such as foot-and-mouth disease, African swine fever, classical swine fever, and swine vesicular disease. In accordance with the regulations, food waste containing meat may be fed to swine only if it has been treated to kill disease organisms.

In an interim rule¹ effective and published in the Federal Register on April 3, 2009 (74 FR 15215-15218, Docket No. APHIS-2008-0120), we amended the regulations to clarify the applicability of the regulations regarding the treatment of garbage that consists of industrially processed materials. The interim rule made clear that such materials are subject to the same treatment requirements as other regulated garbage, except for materials that meet the definition of processed product that we added to the regulations in the interim rule.

¹To view the interim rule, go to (http://www.regulations.gov/fdmspublic/component/main?main=DocketDetail&d=APHIS-2008-0120).

Comments on the interim rule were required to be received on or before June 2, 2009. We did not receive any comments. Therefore, for the reasons given in the interim rule, we are adopting the interim rule as a final rule without change.

This action also affirms information contained in the interim rule concerning Executive Order 12866 and the Regulatory Flexibility Act, Executive Orders 12372 and 12988, and the Paperwork Reduction Act.

Further, for this action, the Office of Management and Budget has waived its review under Executive Order 12866.

List of Subjects in 9 CFR Part 166

Animal diseases, Hogs, Reporting and recordkeeping requirements.

PART 166—SWINE HEALTH PROTECTION

Accordingly, we are adopting as a final rule, without change, the interim rule that amended 9 CFR part 166 and that was published at 74 FR 15215-15218 on April 3, 2009.

Done in Washington, DC, this 27th day of November 2009.

Kevin Shea,
Acting Administrator, Animal and Plant Health Inspection Service.

[FR Doc. E9-29265 Filed 12-8-09: 8:45 am]

BILLING CODE 3410-34-S